DEPARTMENT OF THE INTERIOR

National Park Service

[NPS-WASO-NAGPRA-NPS0026950; PPWOCRADN0-PCU00RP14.R50000]

Notice of Intent To Repatriate Cultural Items: Oakland Museum of California, Oakland, CA

AGENCY: National Park Service, Interior.

ACTION: Notice.

SUMMARY: The Oakland Museum of California, in consultation with the appropriate Indian Tribes or Native Hawaiian organizations, has determined that the cultural items listed in this notice meet the definition of unassociated funerary objects or objects of cultural patrimony. Lineal descendants or representatives of any Indian Tribe or Native Hawaiian organization not identified in this notice that wish to claim these cultural items should submit a written request to the Oakland Museum of California. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Oakland Museum of California at the address in this notice by January 4, 2019.

ADDRESSES: Violetta Wolf, Oakland Museum of California, 1000 Oak Street, Oakland, CA 94607, telephone (510) 318-8489, email vwolf@museumca.org.

SUPPLEMENTARY INFORMATION: Notice is hereby given in accordance with the Native American Graves Protection and Repatriation Act (NAGPRA), 25 U.S.C. 3005, of the intent to repatriate cultural items under the control of the Oakland Museum of California, Oakland, CA, that meet the definition of unassociated funerary objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the 19th or 20th century, one cultural item was removed by an unknown party from an unknown location in California. Sometime in the 20th century, the object came into the possession of the father of Mr. William H. Bird, Sr. of Oakland, CA. The circumstances under which Bird's father acquired the cultural item are unclear. Bird gifted the cultural item to the Oakland Museum of California on September 26, 1974, when he distributed his father's collection of Native American cultural items to the Oakland Museum of California, Merritt College, the Lowie Museum of Anthropology (now known as the Phoebe A. Hearst Museum of Anthropology), and the Oakland Museum Women's Board White Elephant Sale. The one object of cultural patrimony is a xaa-ts'a' (mush bowl). The mush bowl (catalog number H74.285.6) was accessioned by the Oakland Museum of California in 1974. The mush bowl is woven from twined bear grass with a diamond pattern. It is approximately four inches tall and eight inches in diameter. The mush bowl was used by family groups.

The cultural item has been identified as Tolowa in archival documents and the original gift documentation. Consultations from the Tolowa Dee-ni' Nation (previously listed as the Smith River Rancheria, California) and the Yurok Tribe of the Yurok Reservation, California have both confirmed the Tolowa affiliation of this cultural item.

In the 19th or 20th century, one cultural item was removed from the mouth of Smith River in Del Norte County, CA. On November 1, 1949, Mr. M. W. Dadey of Oakland, California, donated the item to the Oakland Public Museum. The circumstances under which the cultural item came into the possession of Mr. Dadey are unknown. In 1965, the collection of the Oakland Public Museum was merged with the collections of two other institutions to create the collection of the Oakland Museum of California. The one unassociated funerary object is a stone maul. The stone maul (catalog number H16.4389) is made from basalt or another igneous rock, is six inches long, and was made by pecking and grinding.

The Tolowa Dee-ni' (previously listed as the Smith River Rancheria, California) are culturally affiliated with the area from which the cultural item was removed. This is supported by archival records and reports, museum records, Department of the Interior sources, academic sources, and correspondence with Tolowa Dee-ni' representatives. Additional archival sources and correspondence with the Tolowa Dee-ni' (previously listed as the Smith River Rancheria, California) describe this cultural item as being consistent with the known burial practices of the Tolowa.

Determinations Made by the Oakland Museum of California

Officials of the Oakland Museum of California have determined that:

• Pursuant to 25 U.S.C. 3001(3)(B), the one cultural item identified as catalog number H16.4389 and described above is reasonably believed to have been placed with or near individual human remains at the time of death or later as part of the death rite or ceremony and is believed, by a preponderance of the evidence, to have been removed from a specific burial site of a Native American individual.

• Pursuant to 25 U.S.C. 3001(3)(D), the one cultural item identified as catalog number H74.285.6 and described above has ongoing historical, traditional, or cultural importance central to the Native American group or culture itself, rather than property owned by an individual.

• Pursuant to 25 U.S.C. 3001(2), there is a relationship of shared group identity that can be reasonably traced between the two cultural items described above and the Tolowa Dee-ni' Nation (previously listed as the Smith River Rancheria, California).

Additional Requestors and Disposition

Lineal descendants or representatives of any Indian Tribe or Native Hawaiian organization not identified in this notice that wish to claim these cultural items should submit a written request with information in support of the claim to Violetta Wolf, Oakland Museum of California, 1000 Oak Street, Oakland, CA 94607, telephone (510) 318-8489, email vwolf@museumca.org, by January 4, 2019. After that date, if no additional claimants have come forward, transfer of control of the unassociated funerary object and the object of cultural patrimony to the Tolowa Dee-ni' Nation (previously listed as the Smith River Rancheria, California) may proceed.

The Oakland Museum of California is responsible for notifying the Tolowa Dee-ni' Nation (previously listed as the Smith River Rancheria, California) that this notice has been published.

Dated: November 7, 2018.
Melanie O'Brien,
Manager, National NAGPRA Program.

[FR Doc. 2018-26446 Filed 12-4-18; 8:45 am]

BILLING CODE 4312-52-P